DEPARTMENT OF COMMERCE

National Oceanic and Atmospheric Administration

Coastal Zone Management: Federal Consistency Appeal by John T. Keegan From an Objection by the Puerto Rico Planning Board

AGENCY: National Oceanic and Atmospheric Administration.

ACTION: Notice of Appeal and Request for Comments.

By letter dated October 26, 1999, John T. Keegan (Appellant) filed with the Secretary of Commerce a notice of appeal pursuant to section 307(c)(3)(A) of the Coastal Zone Management Act (CZMA). The appeal is taken from an objection by the Puerto Rico Planning Board (PRPB) to Appellant's consistency certification for a permit to install 50 helix-screw anchor moorings at Guanica Bay, Guanica, Puerto Rico. The purpose of the project, as stated in Appellant's application, is to provide moorings to boat owners for storm protection during hurricane season. The PRPB's concerns, as stated in the Board's objection letter, include the potential for (1) increases in watercraft collisions with endangered manatees; (2) water quality deterioration in the area of the mooring buoys, owing to the possibility of the area becoming a “mini-marina” without sanitary facilities; and (3) interference with public access to the vicinity for fisherman.

The CZMA provides that a timely objection by a state precludes any federal agency from issuing licenses or permits for the activity unless the Secretary finds that the activity is either “consistent with the objectives” of the CZMA (Ground I) or “necessary in the interest of national security” (Ground II). Section 307(c)(3)(A). To make such a determination, the Secretary must find that the proposed project satisfies the requirements of 15 CFR 930.121 or 930.122. 15 CFR part 930, subpart H has been revised effective January 8, 2001. This appeal is being processed according to the regulations in effect at the time of Appellant's notice.

The Appellant requests that the Secretary override the State's consistency objections based on either Ground I or Ground II. To make the determination that the proposed activity is “consistent with the objectives” of the CZMA, the Secretary must find that: (1) The proposed activity furthers one or more of the national objectives or purposes contained in §§ 302 or 303 of the CZMA, (2) the adverse effects of the proposed activity do not outweigh its contribution to the national interest, (3) the proposed activity will not violate the Clean Air Act or the Federal Water Pollution Control Act, and (4) no reasonable alternative is available that would permit the activity to be conducted in a manner consistent with the State's coastal management program. 15 CFR 930.121. The term “necessary in the interest of national security” describes a Federal license or permit activity, or a Federal assistance activity which, although inconsistent with a State's management program, is found by the Secretary to be permissible because a national defense or other national security interest would be significantly impaired if the activity were not permitted to go forward as proposed. 15 CFR 930.122.

Public comments are invited on the findings that the Secretary must make as set forth in the regulations at 15 CFR 930.121. Comments are due within 30 days of the publication of this notice and should be sent to Ms. Suzanne Bass, Attorney-Adviser, Office of the Assistant General Counsel for Ocean Services, National Oceanic and Atmospheric Administration, U.S. Department of Commerce, 1305 East-West Highway, Room 6111, Silver Spring, MD 20910. Copies of comments will also be forwarded to the Appellant and the State.

All nonconfidential documents submitted in this appeal are available for public inspection during business hours at the offices of the State and the Office of the Assistant General Counsel for Ocean Services.

FOR FURTHER INFORMATION CONTACT: Ms. Suzanne Bass, Attorney-Adviser, Office of the Assistant General Counsel for Ocean Services, National Oceanic and Atmospheric Administration, U.S. Department of Commerce, 1305 East-West Highway, Room 6111, Silver Spring, MD 20910, 301-713-2967.

(Federal Domestic Assistance Catalog No. 11.419 Coastal Zone Management Program Assistance)

Dated: March 13, 2001.
Craig O'Connor,
Acting General Counsel.

[FR Doc. 01-6893 Filed 3-19-01; 8:45 am]

BILLING CODE 3510-08-M